DEPARTMENT OF THE INTERIOR

Bureau of Land Management

[LLWYD03000.L51100000.GN0000.LVEMK10CW580-WYW-166318]

Notice of Availability of the Final Environmental Impact Statement for the Lost Creek Uranium In Situ Recovery Project in Sweetwater County, WY

AGENCY: Bureau of Land Management, Interior.

ACTION: Notice of availability.

SUMMARY: In accordance with the National Environmental Policy Act of 1969, as amended, and the Federal Land Policy and Management Act of 1976, as amended, the Bureau of Land Management (BLM) has prepared a Final Environmental Impact Statement (EIS) for the Lost Creek Uranium In Situ Recovery (ISR) Project and by this notice is announcing its availability.

DATES: The BLM will not issue a final decision on the proposal for a minimum of 30 days from the date that the Environmental Protection Agency publishes this notice in the Federal Register.

ADDRESSES: Copies of the Lost Creek Uranium ISR Project Final EIS are available for public inspection at:

• Bureau of Land Management, Wyoming State Office, 5353 Yellowstone Road, Cheyenne, Wyoming 82009;

• Bureau of Land Management, High Desert District Office, 280 Highway 191 North, Rock Springs, Wyoming 82901;

• Bureau of Land Management, Rawlins Field Office, 1300 N. Third Street, Rawlins, Wyoming 82301; and

• Bureau of Land Management, Lander Field Office, 1335 Main Street, Lander, Wyoming 82520.

Interested persons may also review the Final EIS on the Internet at: http://www.blm.gov/wy/st/en/info/NEPA/documents/rfo/lostcreek.html.

FOR FURTHER INFORMATION CONTACT: John Russell, Project Manager, telephone: 307-328-4252; address: Bureau of Land Management, Rawlins Field Office, 1300 N. Third Street, P.O. Box 2407, Rawlins, Wyoming 82301; email: Lost_Crk_Mine_WY@blm.gov. Persons who use a telecommunications device for the deaf (TDD) may call the Federal Information Relay Service (FIRS) at 1-800-877-8339 to contact the above individual during normal business hours. The FIRS is available 24 hours a day, 7 days a week, to leave a message or question with the above-named individual. You will receive a reply during normal business hours.

SUPPLEMENTARY INFORMATION: Development of Federal locatable minerals by private industry is part of the BLM's mineral program under the authority of 43 CFR 3800. The applicant, Lost Creek ISR, LLC (Lost Creek), has filed a plan of operations pursuant to the 43 CFR 3809 regulations to construct a uranium ore recovery plant, an access road to the site, and a pipeline system for the flow of oxidizing leach solution to injection wells and the return of fluids from recovery wells to the recovery plant site; to drill injection, recovery and monitoring wells; and to construct associated facilities such as parking lots, power lines, etc.

Development and recovery of the uranium consists of dissolving underground uranium-bearing minerals into solution and then bringing the solution to the surface facility for concentration. The Lost Creek ISR Project is located about 40 miles northwest of Rawlins, Wyoming, in Sweetwater County.

The project is located in the following area:

Sixth Principal Meridian

T. 25 N., R. 92 W.,

Sec. 17, S½NE¼NE¼, S½NW¼NE¼, S½NE¼NW¼, S½NW¼NW¼, S½N½, and S½;

Sec. 18, lots 2 to 4, inclusive, S½NE¼NE¼, S½SW¼NE¼, SE¼NE¼, S½SE¼NW¼, E½SW¼, and SE¼;

Sec. 19;

Sec. 20, N½N½, W½SW¼NW¼, and W½W½SW¼;

Sec. 29, NW¼NW¼NW¼;

Sec. 30, lots 5 to 9, inclusive, and lots 16 and 17;

Sec. 31, lot 8.

T. 25 N., R. 93 W.,

Sec. 13, SE¼SE¼NE¼, S½S½, S½N½S½, and NE¼NE¼SE¼;

Sec. 24;

Sec. 25.

The areas described aggregate 3,737 acres of BLM-managed land. The total project area, including both BLM-managed and State lands, is approximately 4,377 acres. The BLM would approve approximately 345 acres of actual surface disturbance. Most of the surface disturbance would be related to construction of pads for wells used to extract uranium in solution from the site. The plant site would comprise approximately 10 acres, including parking space for 50-60 employees. Multiple subsurface ore bodies ranging in depth from 300-700 feet below the surface are found at the site. Each of the three separate production areas containing uranium would be established and mined, one at a time. It is expected that mining operations would last about 8 years. An estimated additional 3 years would be required for startup and closure of the site for a total project length of 11 years. A proposed final reclamation plan for the project area has been submitted. All surface facilities would be removed when the project is completed and the land re-contoured to near predisturbance condition and re-vegetated.

The BLM has selected the Drying Yellowcake On-Site Alternative as the preferred alternative. Under this alternative, a yellowcake drying and packing facility would be constructed and operated at the permit area. As with the proposed action, yellowcake slurry (30-50 percent solids) would be produced; however, the slurry would be filter-pressed to remove additional water, dried, and packaged on-site. Housing the drying-packing facility within the processing plant would reduce shipments from the site, resulting in fewer transportation-related impacts, fewer wildlife disturbances, and cleaner air quality.

The Notice of Intent (NOI) to prepare an Environmental Impact Statement (EIS) was published in the Federal Register on February 11, 2011 (76 FR 7877). The scoping comments received in response to the NOI were used during the preparation of the Draft EIS to help identify impacts expected as a result of the proposed action and to develop the No Action Alternative, the “Not-Fencing-The-Pattern-Areas” Alternative, and the “Drying-Yellowcake-On-Site” Alternative. A 45-day comment period for the Draft EIS ran from April 27, 2012, through June 11, 2012, as announced in the Federal Register on April 27, 2012 (77 FR 25193). The BLM prepared the Final EIS in coordination with the State of Wyoming, Sweetwater County, and Carbon County, which participated as formal cooperating agencies during the EIS process. The BLM also closely coordinated with the United States Fish and Wildlife Service and the Environmental Protection Agency.

Comments received from the public on the Draft EIS and internal BLM review were considered and incorporated as appropriate into the Final EIS. Public comments resulted in the addition of clarifying text, but did not significantly change proposed decisions.

Stephanie A. Connolly,
Acting Associate State Director.

Authority: 40 CFR 1506.6, 40 CFR 1506.10.

[FR Doc. 2012-20175 Filed 8-16-12; 8:45 am]

BILLING CODE 4310-22-P